DEPARTMENT OF DEFENSE

Department of the Air Force

U.S. Air Force Scientific Advisory Board Notice of Meeting

AGENCY: United States Air Force Scientific Advisory Board, Department of the Air Force, Department of Defense.

ACTION: Notice withdrawl.

SUMMARY: The previous Air Force Scientific Advisory Federal Register Notice, Vol. 82, No. 247, published on Wednesday December 27, 2017, is hereby withdrawn. The United States Air Force Scientific Advisory Board Meeting to be held on 23 January 2018 is cancelled. Due to the lapse in appropriations for the Department of Defense (DoD), the Designated Federal Officer for the U.S. Air Force Scientific Advisory Board along with the DoD was unable to provide public notification required by 41 CFR 102-3.150(a) concerning the cancellation of its previously announced meeting on January 23, 2018, of the U.S. Air Force Scientific Advisory Board that published on Wednesday, December 27, 2017, 82 FR 261270. Accordingly, the Advisory Committee Management Officer for the Department of Defense, pursuant to 41 CFR 102-3.150(b), waives the 15-calendar day notification requirement.

FOR FURTHER INFORMATION CONTACT: The Scientific Advisory Board Secretariat Deputy Director and Designated Federal Officer, Evan Buschmann at evan.g.buschmann.civ@mail.mil, 240-612-5503, or United States Air Force Scientific Advisory Board, 1500 West Perimeter Road, Ste. #3300, Joint Base Andrews, MD 20762.

Henry Williams,
Acting Air Force Federal Register Officer.

[FR Doc. 2018-02755 Filed 2-9-18; 8:45 am]

BILLING CODE 5001-10-P